ENVIRONMENTAL PROTECTION AGENCY

[IN 121-4; FRL-7541-2]

Adequacy Status of the Louisville, Kentucky/Indiana 1-Hour Ozone Maintenance Plan for Transportation Conformity

AGENCY: Environmental Protection Agency (EPA).

ACTION: Notice of adequacy.

SUMMARY: In this notice, EPA is notifying the public that EPA has found that the motor vehicle emission budgets (MVEB) in the Louisville area 1-Hour Ozone Maintenance Plan (which includes Clark and Floyd Counties Indiana), submitted June 26, 2003, by the Indiana Department of Environmental Management (IDEM), are adequate for transportation conformity purposes. On March 2, 1999, the D.C. Circuit Court ruled that submitted State Implementation Plans (SIPs) cannot be used for transportation conformity determinations until EPA has affirmatively found them adequate. As a result of this finding, the Louisville area can use the MVEB from the Louisville area 1-Hour Ozone Maintenance Plan for future conformity determinations.

DATES: These MVEB are effective August 22, 2003.

FOR FURTHER INFORMATION CONTACT: Patricia Morris, Environmental Scientist, U.S. Environmental Protection Agency, Region 5; Air Programs Branch; Regulation Development Section; 77 West Jackson Blvd.; Chicago, Illinois 60604. E-mail: morris.patricia@epa.gov. Phone number: (312) 353-8656. The finding is available at EPA's conformity Web site: http://www.epa.gov/otaq/transp.htm (once there, click on the “Transportation Conformity” text icon, then look for “Adequacy Revision of State Implementation Plan (SIP) Submissions for Conformity”).

SUPPLEMENTARY INFORMATION:

Background

Today's notice is simply an announcement of a finding that EPA has already made. EPA Region 5 sent a letter to IDEM on July 9, 2003, stating that the MVEB in the Louisville 1-hour Ozone Maintenance Plan Revision submitted in final on June 26, 2003, are adequate. IDEM submitted the MVEB for parallel processing on May 13, 2003, and EPA posted the submittal to the adequacy Web site on May 15, 2003, for public comment. The adequacy public comment period closed on June 16, 2003, and no comments were submitted. This finding has also been announced on EPA's conformity Web site: http://www.epa.gov/otaq/transp.htm, (once there, click on the “Transportation Conformity” text icon, then look for “Adequacy Review of State Implementation Plan (SIP) Submissions for Conformity”).

Transportation conformity is required by section 176(c) of the Clean Air Act, as amended in 1990. EPA's conformity rule requires that transportation plans, programs and projects conform to state air quality implementation plans and establishes the criteria and procedures for determining whether or not they do. Conformity to a SIP means that transportation activities will not produce new air quality violations, worsen existing violations, or delay timely attainment of the national ambient air quality standards.

The criteria by which EPA determines whether a SIP's MVEB are adequate for transportation conformity purposes are outlined in 40 Code of Federal Regulations 93.118(e)(4). Please note that an adequacy review is separate from EPA's completeness review, and it also should not be used to prejudge EPA's ultimate approval of the SIP. Even if EPA finds a budget adequate, the SIP could later be disapproved.

EPA has described the process for determining the adequacy of submitted SIP budgets in guidance (May 14, 1999 memorandum entitled “Conformity Guidance on Implementation of March 2, 1999 Conformity Court Decision”). EPA has followed this guidance in making this adequacy determination.

Authority: 42 U.S.C. 7401-7671 q.

Dated: July 23, 2003.
William E. Muno,
Acting Regional Administrator, Region 5.

[FR Doc. 03-20153 Filed 8-6-03; 8:45 am]

BILLING CODE 6560-50-P